SOCIAL SECURITY ADMINISTRATION

[Docket No. SSA 2006-0104]

Rescission of Social Security Ruling 88-10c, Bowen v. Galbreath

AGENCY: Social Security Administration.

ACTION: Notice of Rescission of Social Security Ruling.

SUMMARY: In accordance with 20 CFR 402.35(b)(1), the Commissioner of Social Security gives notice of the rescission of Social Security Ruling SSR 88-10c.

EFFECTIVE DATE: December 18, 2006.

FOR FURTHER INFORMATION CONTACT: Marg Handel, Social Security Administration, 6401 Security Boulevard, Baltimore, MD 21235-6401, (410) 965-4639 or TTY 410-966-5609, for information about this notice. For information on eligibility or filing for benefits, call our national toll-free number, 1-800-772-1213 or TTY 1-800-325-0778, or visit our Internet site, Social Security Online, at http://www.socialsecurity.gov.

SUPPLEMENTARY INFORMATION: Social Security Rulings make available to the public precedential decisions relating to the Federal old-age, survivors, disability and supplemental security income programs. Social Security Rulings may be based on case decisions made at all administrative levels of adjudication, Federal court decisions, Commissioner's decisions, opinions of the Office of the General Counsel, and other policy interpretations of the law and regulations.

On June 23, 1988 we issued SSR 88-10(c) to reflect the Supreme Court's decision in Galbreath v. Bowen, 485 U.S. 74 (1988), in which the Court held that the relevant statutes did not permit withholding past-due Supplemental Security Income benefits for attorney's fees in title XVI cases. As the Court noted at the end of its decision, the earlier Congressional decision not to extend attorney fee withholding to title XVI would stand “[u]ntil Congress [saw] fit to override its original decision, by amending Title XVI in a way that manifests an intent to allow withholding.”

In the Social Security Protection Act of 2004 (SSPA), Public Law 108-203, Congress enacted such legislation. Section 302 of the SSPA amended section 1631(d)(2) of the Social Security Act to extend the attorney fee withholding and direct payment procedures to claims under title XVI. We began paying fees directly to attorneys in title XVI cases effectuated on or after February 28, 2005, the date the amendments made by section 302 took effect. While this provision will only be effective for 5 years, we believe that SSR 88-10(c) should be rescinded for this period and we will later determine if there is a need to reinstate it.

(Catalog of Federal Domestic Assistance Programs No. 96.006, Supplemental Security Income)

Dated: December 12, 2006.
Jo Anne B. Barnhart,
Commissioner of Social Security.

[FR Doc. E6-21484 Filed 12-15-06; 8:45 am]

BILLING CODE 4191-02-P